OFFICE OF PERSONNEL MANAGEMENT

Submission for OMB Review; Comment Request for an Emergency Information Collection: Website Customer Satisfaction Survey

AGENCY: Office of Personnel Management.

ACTION: Notice.

SUMMARY: In accordance with the Paperwork Reduction Act of 1995 (Pub. L. 104-13, May 22, 1995), this notice announces that the Office of Personnel Management (OPM) will submit to the Office of Management and Budget (OMB) an emergency request for review of a new information collection. The Website Customer Satisfaction Survey satisfies the requirements of Executive Order 12862 and the guidelines set forth in OMB's Resources Manual for Customer Surveys.

The completed survey will be web-based (electronic). We estimate approximately 300,000 surveys will be completed during the survey period. The time estimate is 7 minutes. The annual estimated burden is 35,000 hours.

Comments are particularly invited on:

• Whether this collection of information is necessary for the proper performance of functions of the Office of Personnel Management, and whether it will have practical utility;

• Whether our estimate of the public burden of this collection of information is accurate and based on valid assumptions and methodology; and

• Ways in which we can minimize the burden of the collection of information on those who respond through the use of appropriate technological collection techniques or other forms of information technology.

For copies of this proposal, contact Mary Beth Smith-Toomey on FAX (202) 418-3251 or e-mail mbtoomey,@opm.gov. Please include a mailing address with your request.

DATES: Comments on this proposal should be received within 3 calendar days from the date of this publication. We request OMB to take action within 15 calendar days of the close of this Notice.

ADDRESSES: Send or deliver comments to: Mary Beth Smith-Toomey, OPM PRA Officer, U.S. Office of Personnel Management, 1900 E St., NW, Room 5415, Washington, DC 20415, and Joseph Lackey, OPM Desk Officer, Office of Information and Regulatory Affairs, Office of Management and Budget, New Executive Office Building NW, Room 10235, Washington, DC 20503.

Office of Personnel Management.
Kay Coles James,
Director.

[FR Doc. 02-12078 Filed 5-14-02; 8:45 am]

BILLING CODE 6325-46-P